DEPARTMENT OF HEALTH AND HUMAN SERVICES

National Institutes of Health

Office of the Director; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: March 24, 2011.

Time: 8:30 a.m. to 5 p.m.

Agenda: The theme of the Office of AIDS Research Advisory Council (OARAC) meeting will be “Research Leading to a Cure for HIV/AIDS.” The meeting will focus on: the role of viral reservoirs in viral eradication; immunological and virological approaches to developing HIV/AIDS therapeutics; gene activation in the development of AIDS therapeutics; systems biology approaches to developing new and better therapeutics; and novel approaches to treating AIDS. An update will be provided on the OARAC Working Groups for Treatment and Prevention Guidelines.

Place: National Institutes of Health, 5635 Fishers Lane, Terrace Level, Rockville, MD 20852.

Contact Person: Robert Eisinger, PhD, Executive Secretary, Director of Scientific and Program Operations, Therapeutics Coordinating Committee, Office of Aids Research, 5635 Fishers Lane, MSC 9310, Suite 400, Rockville, MD 20852. (301) 496-0357. be4y@nih.gov.

Any interested person may file written comments with the committee by forwarding the statement to the Contact Person listed on this notice. The statement should include the name, address, telephone number and when applicable, the business or professional affiliation of the interested person. Information is also available on the Institute's/Center's home page: http://www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: February 22, 2011.
Jennifer S. Spaeth,
Director, Office of Federal Advisory Committee Policy.

[FR Doc. 2011-4386 Filed 2-25-11; 8:45 am]

BILLING CODE 4140-01-P